DEPARTMENT OF THE INTERIOR

National Park Service

[NPS-PWR-PWRO-0926-8514; 8360-C19D-454]

Jimbilnan, Pinto Valley, Black Canyon, Eldorado, Ireteba Peaks, Nellis Wash, Spirit Mountain, and Bridge Canyon Wilderness Areas Wilderness Management Plan/Environmental Impact Statement, Lake Mead National Recreation Area

AGENCY: National Park Service, Interior.

ACTION: Notice of Intent to Prepare an Environmental Impact Statement for the Wilderness Management Plan for the Jimbilnan, Pinto Valley, Black Canyon, Eldorado, Ireteba Peaks, Nellis Wash, Spirit Mountain, and Bridge Canyon Wilderness Areas, Lake Mead National Recreation Area, Nevada.

SUMMARY: Pursuant to the National Environmental Policy Act of 1969, 42 U.S.C. 4332(2)(C), the National Park Service (NPS) is the lead agency for the preparation of an environmental impact statement (EIS) for a wilderness management plan for eight wilderness areas in Lake Mead National Recreation Area, three of which are partially located on adjacent Bureau of Land Management (BLM) lands. The BLM will serve as a cooperating agency in the preparation of the EIS. The wilderness management plan (plan) will establish management goals for these wilderness areas, develop long term direction for monitoring and preserving wilderness character (i.e., natural, untrammeled, undeveloped, and outstanding opportunities for solitude or primitive and unconfined recreation) in the wilderness areas, while also providing for the use and enjoyment of the areas by current and future generations. Additionally, this plan will provide for accountability, interagency consistency, and continuity in the stewardship of these NPS and BLM wilderness areas.

SUPPLEMENTARY INFORMATION: A range of alternatives for stewardship of these eight wilderness areas, consistent with the requirements of the Wilderness Act of 1964, will be developed through this planning process and will include at least no-action and preferred alternatives. Issues the EIS/plan is expected to address will include identifying appropriate uses for these areas; providing for access within, and information about, the wilderness areas while protecting wilderness character; providing for reasonable use of Spirit Mountain and adjacent areas in a manner meeting tribal needs and concerns; restoring disturbed areas within the wilderness areas; and coordinating agency management efforts. The EIS will evaluate and compare the potential environmental consequences of all the alternatives, and appropriate mitigation strategies will be included. The “environmentally preferred” alternative will also be identified.

In April, 2010 the NPS and BLM released an Environmental Assessment for the proposed plan. Issues and concerns emerged in regards to appropriateness of use of fixed anchors (e.g., bolting) in wilderness, and conflicts between recreational use and cultural resource protection and Tribal interests could not be resolved. As a result, it was determined that an EIS would be prepared.

All interested persons, organizations, and agencies are encouraged to submit comments and suggestions on issues and concerns that should be addressed in preparing the plan/EIS, and the range of appropriate alternatives that should be examined. All prior comments and information received in regards to the 2010 Environmental Assessment for the wilderness management plan will be carried forward and fully considered in developing the Draft EIS.

DATES: The NPS in cooperation with the BLM is beginning public scoping via a letter to state and federal agencies, American Indian tribes, local and regional governments, organizations and businesses, researchers and institutions; the congressional delegation; and other interested members of the public. Written comments concerning the scope of the plan/EIS and submittal of relevant environmental information must be postmarked or transmitted not later than March 16, 2012.

ADDRESSES: Interested individuals, organizations, and other entities wishing to provide input to this phase of developing the plan/EIS may mail or email comments to Lake Mead National Recreation Area Wilderness Management Plan, National Park Service, Denver Service Center—Planning, P.O. Box 25287, Denver, CO 80225 (or via the Internet at http://parkplanning.nps.gov). Comments may also be mailed or hand-delivered to Superintendent of Lake Mead National Recreation Area, 601 Nevada Way, Boulder City, NV 89005.

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Jim Holland, NPS Park Planner, at the Lake Mead National Recreation Area address above. Telephone: (702) 293-8986. Email: jim_holland@nps.gov; and Mark Tanaka-Sanders, Wilderness Planner, Bureau of Land Management, 4701 North Torrey Pines, Las Vegas, NV 89130. Telephone: (702) 515-5039. Email: lvwilderness@blm.gov. You may also contact Greg Jarvis, Project Manager, Denver Service Center at the address above. Telephone: (303) 969-2263. General information about Lake Mead National Recreation Area is available at http://www.nps.gov/lame and general information about the BLM Southern Nevada District is available at http://www.blm.gov/nv/st/en/fo/lvfo.html.

Dated: August 8, 2011.
Martha J. Lee,
Acting Regional Director, Pacific West Region.

[FR Doc. 2012-3037 Filed 2-14-12; 8:45 am]

BILLING CODE 4310-A7-P